DEPARTMENT OF ENERGY

Federal Energy Regulatory Commission

[Project No. 7987-016]

UP Property 2, LLC, Unique Places, LLC; Notice of Transfer of Exemption

1. By letter filed May 8, 2025, Jeff Fischer, Manager, UP Property 2, LLC, exemptee informed the Commission that the exemption from licensing for the High Falls Hydroelectric Project No. 7987, originally issued September 12, 1984 ¹ has been transferred to Unique Places, LLC. The project is located on the Deep River in Moore County, North Carolina. The transfer of an exemption does not require Commission approval.

¹ Order Granting Exemption from Licensing of a Small Hydroelectric Project of 5 Megawatts or Less. Cook Industries, Inc., 28 FERC ¶ 62,352 (1984).

Unique Places, LLC is now the exemptee of the High Falls Hydroelectric Project No. 7987. All correspondence should be forwarded to: Mr. Jeffrey A. Fisher, Manager, Unique Places, LLC, 5014 Hollow Rock Road, Durham, NC 27707, Phone: 919-632-0161, Email: jeff@uniqueplacesllc.com.

Dated: June 4, 2025.
Debbie-Anne A. Reese,
Secretary.

[FR Doc. 2025-10494 Filed 6-9-25; 8:45 am]

BILLING CODE 6717-01-P